DEPARTMENT OF TRANSPORTATION

Pipeline and Hazardous Materials Safety Administration

Notice of Applications for Modification of Special Permit

AGENCY: Office of Hazardous Materials Safety, Pipeline and Hazardous Materials Safety Administration (PHMSA), DOT.

ACTION: List of applications for modification of special permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g., to provide for additional hazardous materials, packaging design changes, additional mode of transportation, etc.) are described in footnotes to the application number. Application numbers with the suffix “M” denote a modification request. These applications have been separated from the new application for special permits to facilitate processing.

DATES: Comments must be received on or before January 30, 2012.

Address Comments to: Record Center, Pipeline and Hazardous Materials Safety Administration, U.S. Department of Transportation, Washington, DC, 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue SE., Washington, DC, or at http://regulations.gov.

This notice of receipt of applications for modification of special permit is published in accordance with Part 107 of the Federal hazardous materials transportation law (49 U.S.C. 5117(b); 49 CFR 1.53(b)).

Issued in Washington, DC, on January 6, 2012.
Donald Burger,
Chief, General Approvals and Permits.

Application No. | Docket No. | Applicant | Regulation(s) affected | Nature of special permit thereof
MODIFICATION SPECIAL PERMITS
11215-M |  | Orbital Sciences Corporation, Mojave, CA | 49 CFR Part 172, Subparts C, D; 172.101, Special Provision 109 | To modify the special permit to add a Class 9 material.
11606- |  | Safety-Kleen Systems, Inc., Plano, TX | 49 CFR 173.28(b)(2) | To modify the special permit to authorize double stacking of pallets used for shipping and to authorize approved third party transporters to transport the material authorized in the permit.
12135-M |  | Daicel Safety Systems Inc. Hyogo Prefecture 671-1682 | 49 CFR 173.301(h) 173.302 173.306(d)(3) | To modify the special permit to authorize a new design of non-DOT specification cylinders (pressure vessels) for use as components of automobile vehicle safety systems.
14175-M |  | The Linde Group, Murray Hill, NJ | 49 CFR 180.209 | To modify the special permit to authorize additional Division 2.2 gases.
14467-M |  | Brennar Tank, LLC, Fond Du Lac, WI | 49 CFR 178.345-2 | To modify the special permit to authorize construction of series 400 cargo tanks using certain materials not authorized in 178.345(2) as materials of construction and to add additional UNS Designation tanks.
14952-M |  | Mebrom NV Ertvelde-Rieme | 49 CFR 173.193 | To modify the special permit to Belgium to authorize an alternative method of retesting qualification.
15181-M |  | JBI Helicopter, Pembroke, NH | 49 CFR 172.101 Column (9B) 172.204(c)(3) 173.27(b)(2) 175.30(a)(1) 172.200 172.300 and 172.400 | To modify the special permit to authorize additional Division 1.1, 2.1, 2.2, 3, 4.1, 4.2, and Class 9 materials.

[FR Doc. 2012-495 Filed 1-12-12; 8:45 am]

BILLING CODE 4910-60-M